DEPARTMENT OF ENERGY

Federal Energy Regulatory Commission

[Docket No. CP22-26-000]

Northern Natural Gas Company; Notice of Schedule for the Preparation of an Environmental Assessment for the Des Moines A-Line Replacement Project

On December 3, 2021, Northern Natural Gas Company (Northern) filed an application in Docket No. CP22-26-000 requesting a Certificate of Public Convenience and Necessity pursuant to Section 7(b) and 7(c) of the Natural Gas Act to abandon, remove, and construct certain natural gas pipeline facilities in Boone, Dallas and Polk Counties, Iowa. The proposed project is known as the Des Moines A-Line Replacement Project (Project). Northern proposes to abandon its existing 16-inch-diameter Des Moines A-Line, originally authorized in 1943, and replace its capacity through the installation of new 20-inch-diameter pipeline as an extension of its Des Moines C-Line. The C-Line extension would not increase the capacity of the system; but rather restore the 340 million cubic feet per day (MMcf/day) of natural gas lost with abandonment of the A-line. The Project would result in no loss of service to Northern's customers and would have no impact on Northern's ability to serve markets on its system.

On December 17, 2021, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA: November 4, 2022.

90-day Federal Authorization Decision Deadline: ² February 2, 2023.

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Northern proposes to abandon about 29.6 miles of its existing 16-inch-diameter Des Moines IAB65001 A-Line in Boone, Dallas and Polk Counties, Iowa. The abandonment would begin at its existing Ogden Compressor Station at A-Line milepost (MP) 0.0 in Boone County. It would terminate at an existing A-Line Third Launcher, atA-Line MP 29.63, in Polk County. The A-Line would remain in-service downstream of the launcher; which would be renamed the Des Moines Pigging and Regulator Facility. Most of the existing A-Line would be abandoned-in-place; however, Northern proposes to remove about 0.06 mile of the A-Line. Northern also proposes to install a total of about 9.1 miles of new 20-inch-diameter pipeline as an extension of its existing C-Line in Boone, Dallas, and Polk Counties, Iowa.

Background

On February 8, 2022, the Commission issued a Notice of Scoping Period Requesting Comments on Environmental Issues for the Proposed Des Moines A-Line Replacement Project. The scoping period closed March 11, 2022. The Notice of Scoping was sent to affected landowners; federal, state, and local government agencies; elected officials; environmental and public interest groups; potentially interested Indian tribes; other interested parties; and local libraries and newspapers. In response to the Notice of Scoping, the Commission received a comment from the Teamsters National Pipeline Labor Management Cooperation Trust, stating that they support the building of the Project if union labor is utilized in construction. A landowner stated that the Project was rerouted to avoid their property, and referenced a past incident of pipeline failure on their property. A second landowner expressed concerns that the Project would negatively impact the impending sale of their property. All substantive environmental comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-26), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 5, 2022.
Debbie-Anne A. Reese,
Deputy Secretary.

[FR Doc. 2022-10105 Filed 5-10-22; 8:45 am]

BILLING CODE 6717-01-P